DEPARTMENT OF VETERANS AFFAIRS

Fund Availability Under VA Homeless Providers Grant and Per Diem Program

AGENCY: Department of Veterans Affairs.

ACTION: Notice.

SUMMARY: The Department of Veterans Affairs (VA) is announcing the availability of funds for applications for assistance under the Technical Assistance Grant component of VA's Homeless Providers Grant and Per Diem Program. This notice contains information concerning the program, application process, and amount of funding available.

DATES: An original completed and collated grant application (plus three completed collated copies) for assistance under the VA's Homeless Providers Grant and Per Diem Program must be received in the Grant and Per Diem Field Office, by 4 p.m. Eastern Time on Wednesday, March 25, 2009. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays, computer service outages (in the case of Grants.gov), or other delivery-related problems.

For a Copy of the Application Package: Download directly from VA's Grant and Per Diem Program Web page at: http://www.va.gov/homeless/page.cfm?pg=3 or call the Grant and Per Diem Program at (toll-free) 1-877-332-0334. In this package is information on Grants.gov submission should applicants so desire. For a document relating to the VA's Homeless Providers Grant and Per Diem Program, see the final rule codified at 38 CFR Part 61.0.

Submission of Application: An original completed and collated grant application (plus three copies) and a cover letter clearly stating under which funding priority applicants (see funding priorities) wish to be considered must be submitted to the following address: VA Homeless Providers Grant and Per Diem Field Office, 10770 N. 46th Street, Suite C-200, Tampa, FL 33617. Applications must be received in the Grant and Per Diem Field office by the application deadline. This includes applications submitted through Grants.gov. Applications must arrive as a complete package. Materials arriving separately will not be included in the application package for consideration and may result in the application being rejected or not funded.

FOR FURTHER INFORMATION CONTACT: Ms. Chelsea Watson, VA Homeless Providers Grant and Per Diem Program, Department of Veterans Affairs, 10770 North 46th Street, Suite C-200, Tampa, FL 33617; or call (toll-free) 1-877-332-0334.

SUPPLEMENTARY INFORMATION: This notice announces the availability of funds for assistance under VA's Homeless Providers Grant and Per Diem Program for eligible non-profit entities with expertise in preparing grant applications relating to the provision of assistance for homeless veterans to: Provide technical assistance to those non-profit community-based groups with experience in providing assistance to homeless veterans in order to help such groups apply for grants under the final rule, published in the Federal Register, September 26, 2003, or to apply for other grants from any source for addressing the problems of homeless veterans.

Funding applied for under this Notice is authorized by the “Homeless Veterans Comprehensive Assistance Act of 2001,” Public Law 107-95, § 5, codified as amended at 38 U.S.C. 2011, 2012, 2013, 2061, 2064. The program is implemented by the final rule codified at 38 CFR Part 61.0. The regulations can be found in their entirety in 38 CFR, Sec. 61.0 through 61.82. Funds made available under this Notice are subject to the requirements of those regulations.

Funding applied for under this notice may be used for: (a) Group or individual seminars providing general instructions concerning grant applications; (b) Group or individual seminars providing instructions for applying for a specific grant; or (c) Group or individual instruction for preparing analyses to be included in a grant application. Seminars (course of instruction) may be delivered in electronic, face-to-face (individual or group), and correspondence methodologies (e.g., Internet based training, video teleconferencing, computer media such as CD or disk).

VA's statutory authority is limited to providing grants so that the recipients “shall provide technical assistance to non-profit community-based groups with experience in providing assistance to homeless veterans in order to assist such groups in applying for grants under this chapter and other grants relating to addressing problems of homeless veterans” (38 U.S.C. 2064). Potential applicants should take this into consideration when developing technical assistance applications to ensure their activities as described in the application meet the regulatory criteria of aiding potential non-profits by providing general instructions concerning grant applications, instruction on completing specific grant applications, or providing analyses to be used in grant applications (38 CFR 61.50 (a), (b), (c)).

Entities that are interested in providing technical assistance should be aware that historically the Grant and Per Diem Program office receives over 1,500 nationwide inquiries per Notice of Fund Availability (NOFA) from prospective applicants. It is estimated that an additional 1,000 inquiries are received nationwide at VA Medical Center Homeless Programs. From these inquiries, VA has seen an increase in the number of applicants each year. Approximately 100 to 300 applications per funding round have been received in past responses to NOFAs under VA's Homeless Providers Grant and Per Diem Program. Those entities applying to provide technical assistance should consider not only the numbers but the diversity of the service provider seeking assistance when establishing their service plans.

The applicant for this funding will be expected to develop an integrated technical assistance plan, using funds for purposes as specified in this NOFA, the objectives of the program rules and regulations to offer technical assistance to agencies in their-specified target area. Applicants should take note that they will be held accountable to provide to VA documentation that demonstrates the objectives of technical training are being met throughout the course of the award cycle and documentation that clearly demonstrates the completion of technical assistance objectives were met, cumulatively, at the end of the funding period. Also, VA intends to conduct both periodic fiscal and performance reviews of the awarded agency(s). The technical assistance should not only raise the awareness of providers regarding the availably of funds to assist homeless veterans but also increase providers' proficiency in applying for these funds to assist homeless veterans. Applicants should take the aforementioned into consideration when developing a technical assistance plan. Outcomes measures that are specific and measurable should be an integral part of the technical assistance plan that is submitted in the application.

Grant applicants may not receive assistance to replace funds provided by any State or local government for the same purpose.

Authority: Funding applied for under this Notice is authorized by the “Homeless Veterans Comprehensive Assistance Act of 2001,” Public Law 107-95, § 5, codified as amended at 38 U.S.C. 2011, 2012, 2013, 2061, 2064. The program is implemented by the final rule codified at 38 CFR Part 61.0. The regulations can be found in their entirety in 38 CFR, Sec. 61.0 through 61.82. Funds made available under this Notice are subject to the requirements of those regulations.

Allocation: Approximately $3 million is available for the technical assistance grant component of this program. Funding will be for a period beginning on October 1, 2009 and ending on September 30, 2011. Not more than $500,000.00 per year per technical assistance provider will be awarded. Applicants should take into consideration the 24-month period of award when calculating and submitting their budgets for this NOFA.

Funding Priorities: Feedback from previous technical assistance users' and documented outcomes from previous technical assistance providers indicates a demand and preference for face-to-face group seminars to deliver technical assistance information. In order to meet this demand VA establishes the following funding priorities.

Funding priority 1. Eligible entities that will provide 45 face-to-face group grant writing seminars, nationwide, per year, specific to the Grant / Per Diem Program will be placed in funding priority one.

With these criteria, of those eligible entities in the first funding priority, that are legally fundable, the highest scoring applicant will be funded first followed by the second highest scoring applicant until $1 million is funded. Of this group not more than one (1) technical assistance grant will be awarded to the same technical assistance recipient (defined by tax identification number). Using the guidance above, should the goal not be met and if funding is still available, remaining funding will go to the second funding priority.

Funding priority 2. Should funding still be available, eligible entities providing general technical assistance activities as stated in the regulations will be placed in the second funding priority. Of this group not more than one (1) technical assistance grant will be awarded to the same technical assistance recipient (defined by tax identification number). Of those eligible entities in the second funding priority, that are legally fundable, the highest scoring applicants will be funded first until funding is expended.

Application Requirements: Applicants must provide a cover letter indicating which funding priority they are applying under. The specific grant application requirements will be specified in the application package. The package includes all required forms and certifications. Selections will be made based on criteria described in the application. Applicants who are selected will be notified of any additional information needed to confirm or clarify information provided in the application. Applicants will then be notified of the time in which to submit such information. If an applicant is unable to meet any conditions for grant award within the specified time frame, VA reserves the right to not award funds and to use the funds available for other grant and per diem applicants.

Dated: January 13, 2009.
James B. Peake,
Secretary of Veterans Affairs.

[FR Doc. E9-1507 Filed 1-22-09; 8:45 am]

BILLING CODE 8320-01-P